DEPARTMENT OF STATE

[Public Notice: 6301]

Additional Designation of Entities Pursuant to Executive Order 13382

AGENCY: Department of State.

ACTION: Designation of Iranian Individuals Rahim Safavi and Mohsen Fakhrizadeh, and Iranian entity the TAMAS Company, Pursuant to Executive Order 13382.

SUMMARY: Pursuant to the authority in section 1(ii) of Executive Order 13382, “Blocking Property of Weapons of Mass Destruction Proliferators and Their Supporters”, the Acting Under Secretary of State for Arms Control and International Security, in consultation with the Secretary of the Treasury and the Attorney General, has determined that two Iranian individuals and one entity, namely Rahim Safavi, Mohsen Fakhrizadeh and the TAMAS Company, have engaged, or attempted to engage, in activities or transactions that have materially contributed to, or pose a risk of materially contributing to, the proliferation of weapons of mass destruction or their means of delivery.

DATES: The designation by the Acting Under Secretary of State for Arms Control and International Security of the individuals and entity identified in this notice pursuant to Executive Order 13382 is effective on July 8, 2008.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, and person whose property and interests in property are blocked pursuant to the Order.

On July 8, 2008, the Acting Under Secretary of State for Arms Control and International Security, in consultation with the Secretary of the Treasury, the Attorney General, and other relevant agencies, designated two individuals and one entity whose property and interests in property are blocked pursuant to Executive Order 13382.

Information on the additional designees is as follows:

1. TAMAS COMPANY. AKA: TAMAS; AKA: NUCLEAR FUEL PRODUCTION COMPANY. Address: No. 84, 20th Street. Northern Kargar Avenue. Tehran, 10000. Iran.

2. YAHYA RAHIM SAFAVI. AKA: RAHIM SAFAVI; AKA: YAHYA RAHIM-SAFAVI; AKA: SAYED YAHYA SAFAVI; AKA: YAHIA RAHIM SAFAWI; AKA: SEYYED YAHYA RAHIM-SAFAVI; AKA: YAHYA RAHIM AL-SIFAWI. Date of Birth: March to September 1952-1953. Place of Birth: Esfahan, Iran.

3. MOHSEN FAKHRIZADEH-MAHABADI. AKA: MOHSEN FAKHRIZADEH; AKA: FAKHRIZADEH. Passport Numbers: A0009228, 4229533.

Dated: July 7, 2008.
John C. Rood,
Acting Under Secretary, Arms Control and International Security, Department of State.

[FR Doc. E8-16621 Filed 7-18-08; 8:45 am]

BILLING CODE 4710-27-P